DEPARTMENT OF AGRICULTURE

Forest Service

Wrangell-Petersburg Resource Advisory Committee

AGENCY: Forest Service, USDA.

ACTION: Notice of meetings.

SUMMARY: The Wrangell-Petersburg Resource Advisory Committee (RAC) has scheduled its next two regular meetings. The first meeting will take place Friday, December 9, 2005 from 1 p.m. until 5:15 p.m. (or until the conclusion of public testimony), and Saturday, December 10, 2005 from 8 a.m. until 12 p.m. This meeting will be held in Petersburg, Alaska. The second meeting will take place on Friday, January 13, 2006 from 8 a.m. until 5:15 p.m. (or until the conclusion of public testimony), and on Saturday, January 14, 2006 from 8 a.m. until 9 a.m. This meeting will take place in Wrangell, Alaska. The purpose of both of these meetings is in review submitted projects and potentially make funding recommendations pursuant to title II, Public Law 106-363, H.R. 2389, the Secure Rural Schools and Community Self-Determination Act of 2000, also called the “Payments to States” Act. Public testimony regarding the proposals will also be taken at each meeting.

DATES: The first meeting will take place in Petersburg, Alaska, on Friday, December 9, 2005 from 1 p.m. until 5:15 p.m. and Saturday, December 10, 2005 from 8 a.m. until 12 p.m. The second meeting will take place in Wrangell, Alaska on Friday, January 13, 2006 from 8 a.m. until 5:15 p.m., and on Saturday, January 14, 2006 from 8 a.m. until 9 a.m.

ADDRESSES: The December meeting will take place at the Scandia House Hotel Conference Room, 110 N. Nordic Drive, Petersburg, Alaska. The January meeting will take place at the James and Elsie Nolan Center, 1096 Outer Drive, Wrangell, Alaska.

FOR FURTHER INFORMATION CONTACT: Patty Grantham, Petersburg District Ranger, P.O. Box 1328, Petersburg, AK 99833, Phone (907) 772-3871, e-mail pagrantham@fs.fed.us, or Mark Hummel, Wrangell District Ranger, P.O. Box 51, Wrangell, AK 99833, e-mail mhummel@fs.fed.us. Toll-free conference calling is available for each of these meetings; please call or e-mail for specific information. For further information on RAC history, operations, and the application process, a Web site is available at http://www.fs.fed.us/payments. Once in the Web site, follow the links to the Wrangell-Petersburg Resource Advisory Committee.

SUPPLEMENTARY INFORMATION: This meeting will focus on the review and discussion of proposals received by the RAC for funding under Title II of the Payments to States legislation (Pub. L. 106-393). New proposals (initial reading) may be discussed at the meetings. The committee may make recommendations for project funding during the meetings. A field trip to review proposals proximate to both the Wrangell and Petersburg, Alaska areas may take place in conjunction with the meetings. Both meetings are open to the public. Public input opportunity will be provided and individuals will have the opportunity to address the committee during that time.

Dated: November 10, 2005.
Forrest Cole,
Forest Supervisor.

[FR Doc. 05-23244 Filed 11-26-05; 8:45 am]

BILLING CODE 3410-11-M